ENVIRONMENTAL PROTECTION AGENCY

40 CFR Part 52

[EPA-R02-OAR-2022-0631; FRL-10786-02-R2]

Partial Approval and Partial Disapproval of Air Quality State Implementation Plans; New Jersey; 2015 Ozone Infrastructure

AGENCY: Environmental Protection Agency (EPA).

ACTION: Final rule.

SUMMARY: The Environmental Protection Agency (EPA) is partially approving and partially disapproving certain elements of a State Implementation Plan (SIP) submission from New Jersey regarding the infrastructure requirements of the Clean Air Act (CAA) for the 2015 8-hour Ozone National Ambient Air Quality Standards (NAAQS). The infrastructure requirements are designed to ensure that the structural components of each State's air quality management program are adequate to meet the State's responsibilities under the CAA. Except as noted, this SIP revision satisfies the infrastructure requirements of the CAA for the 2015 ozone NAAQS. The disapproval portion of this action does not begin a new Federal Implementation Plan (FIP) clock, because the FIPs are already in place. EPA proposed to approve this action on Friday, April 12, 2024 and received no adverse comments.

DATES: This final rule is effective on September 9, 2024.

ADDRESSES: The EPA has established a docket for this action under Docket ID Number EPA-R02-OAR-2022-0631. All documents in the docket are listed on the https://www.regulations.gov website. Although listed in the index, some information is not publicly available, e.g., Controlled Unclassified Information (CUI) (formally referred to as Confidential Business Information (CBI)) or other information whose disclosure is restricted by statute. Certain other material, such as copyrighted material, is not placed on the internet and will be publicly available only in hard copy form. Publicly available docket materials are available electronically through https://www.regulations.gov.

FOR FURTHER INFORMATION CONTACT: Ysabel Banon, Air Programs Branch, Environmental Protection Agency, 290 Broadway, New York, New York 10007-1866, at (212) 637-3382, or by email at banon.ysabel@epa.gov.

SUPPLEMENTARY INFORMATION:

Table of Contents

I. What is the background for this action?

II. What comments were received in response to the EPA's proposed action?

III. What action is the EPA taking?

IV. Statutory and Executive Order Reviews

I. What is the background for this action?

Under sections 110(a)(1) and (2) of the Clean Air Act (CAA), each State is required to submit a SIP that provides for the implementation, maintenance, and enforcement of a revised primary or secondary NAAQS or standard. CAA sections 110(a)(1) and (2) require each State to make a new SIP submission within three years after the EPA promulgates a new or revised NAAQS for approval into the existing federally approved SIP to assure that the SIP meets the applicable requirements for such new and revised NAAQS.

On April 12, 2024 (89 FR 25841), the EPA proposed to approve most elements of a submission from the New Jersey Department of Environmental Protection (NJDEP) submitted on May 13, 2019, as fully meeting the infrastructure requirements for the 2015 8-hour ozone NAAQS (89 FR 25841) for the following section 110(a)(2) elements and sub-elements: (A), (B), (C) (enforcement program only), (D)(i)(II) prong 4 (visibility), (E), (F), (G), (H), (J) (consultation and public notification only), (K), (L), and (M) of the CAA. EPA is proposing to disapprove the portion of the submission that relates to prevention of significant deterioration (PSD). An explanation of the CAA requirements, a detailed analysis of the revisions, and EPA's reasons for proposing approval were provided in the notice of proposed rulemaking (NPRM) and will not be restated here.

II. What comments were received in response to the EPA's proposed action?

In response to the EPA's April 12, 2024, proposed rulemaking on New Jersey's SIP revisions, the EPA received three comments during the 30-day public comment period that ended on May 13, 2024. The specific comments may be viewed under Docket ID Number EPA-R02-OAR-2022-0631 on the https://regulations.gov website.

Comments 1 & 2

Two public comments were submitted that support the EPA's action.

Response 1 & 2

The EPA acknowledges the commenters' support of the EPA's proposed rule.

Comment 3

A third comment asked about the establishment of infrastructure requirements for cannabis dispensaries. Specifically, the commenter believes that these requirements should be imposed on dispensaries and their owners rather than on taxpayers.

Response 3

After reviewing the comment, EPA has determined that the comment is outside the scope of our proposed action or fails to identify any material issue necessitating a response. The comment does not raise issues germane or relevant to the EPA's proposed action. The comment lacks the required specificity to the proposed SIP revision and the relevant requirements of CAA section 110. Moreover, the comment does not address a specific regulation or provision in question or recommend a different action on the SIP submission from what EPA proposed, and therefore is not adverse to this action. For this reason, the EPA will not provide a specific response to the comment.

III. What action is the EPA taking?

The EPA is approving NJDEP's SIP revision submitted on May 13, 2019, for the 2015 ozone NAAQS for the following section 110(a)(2) elements and sub-elements: (A), (B), (C) (enforcement program only), (D)(i)(II) prong 4 (visibility), (E), (F), (G), (H), (J) (consultation and public notification only), (K), (L), and (M).

New Jersey has elected to comply with the Federal PSD requirements by accepting delegation of the Federal rules and has been successfully implementing this program for many years. However, EPA does not recognize a delegated PSD program as satisfying the Infrastructure SIP requirements. Therefore, as discussed in the proposed approval, 89 FR 2584, EPA is disapproving New Jersey's submittal for the 2015 8-hour ozone NAAQS section 110(a)(2) sub-elements: (C), prong 3 of (D)(i)(II), and (J), as they relate to the State's lack of a State adopted PSD program, as well as (D)(ii), which relates to interstate and international pollution abatement and PSD. However, these disapprovals will not trigger any sanctions or additional Federal Implementation Plan obligation since a PSD Federal Implementation Plan is already in place.

IV. Statutory and Executive Order Reviews

Additional information about these statutes and Executive orders can be found at https://www.epa.gov/lawsregulations/laws-and-executive-orders.

A. Executive Order 12866: Regulatory Planning and Review, Executive Order 13563: Improving Regulation and Regulatory Review, and Executive Order 14094: Modernizing Regulatory Review

This action is not a significant regulatory action as defined in Executive Order 12866, as amended by Executive Order 14094, and was therefore not submitted to the Office of Management and Budget (OMB) for review.

B. Paperwork Reduction Act (PRA)

This action does not impose an information collection burden under the PRA because this action does not impose additional requirements beyond those imposed by State law.

C. Regulatory Flexibility Act (RFA)

I certify that this action will not have a significant economic impact on a substantial number of small entities under the RFA. This action will not impose any requirements on small entities beyond those imposed by State law.

D. Unfunded Mandates Reform Act (UMRA)

This action does not contain any unfunded mandate as described in UMRA, 2 U.S.C. 1531-1538, and does not significantly or uniquely affect small governments. This action does not impose additional requirements beyond those imposed by State law. Accordingly, no additional costs to State, local, or Tribal governments, or to the private sector, will result from this action.

E. Executive Order 13132: Federalism

This action does not have federalism implications. It will not have substantial direct effects on the States, on the relationship between the National Government and the States, or on the distribution of power and responsibilities among the various levels of government.

F. Executive Order 13175: Coordination With Indian Tribal Governments

This action does not have Tribal implications, as specified in Executive Order 13175, because the SIP is not approved to apply on any Indian reservation land or in any other area where the EPA or an Indian Tribe has demonstrated that a Tribe has jurisdiction and will not impose substantial direct costs on Tribal governments or preempt Tribal law. Thus, Executive Order 13175 does not apply to this action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive order. This action is not subject to Executive Order 13045 because it does not impose additional requirements beyond those imposed by State law.

H. Executive Order 13211: Actions That Significantly Affect Energy Supply, Distribution, or Use

This action is not subject to Executive Order 13211, because it is not a significant regulatory action under Executive Order 12866.

I. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

J. Executive Order 12898: Federal Actions To Address Environmental Justice in Minority Populations and Low-Income Populations

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

Under the CAA, the Administrator is required to approve a SIP submission that complies with the provisions of the Act and applicable Federal regulations. 42 U.S.C. 7410(k); 40 CFR 52.02(a). Thus, in reviewing SIP submissions, the EPA's role is to review State choices, and approve those choices if they meet the minimum criteria of the Act. Accordingly, this final action is approving in part, and disapproving in part a State implementation plan as meeting Federal requirements and does not impose additional requirements beyond those imposed by State law.

The State evaluated environmental justice considerations as part of its SIP submittal even though the CAA and applicable implementing regulations neither prohibit nor require an evaluation. EPA reviewed and considered the air agency's evaluation of environmental justice considerations of this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

K. Congressional Review Act (CRA)

This action is subject to the CRA, and the EPA will submit a rule report to each House of the Congress and to the Comptroller General of the United States. This action is not a “major rule” as defined by 5 U.S.C. 804(2).

L. Petitions for Judicial Review

Under section 307(b)(1) of the Clean Air Act, petitions for judicial review of this action must be filed in the United States Court of Appeals for the appropriate circuit by October 8, 2024. Filing a petition for reconsideration by the Administrator of this final rule does not affect the finality of this rule for the purposes of judicial review nor does it extend the time within which a petition for judicial review may be filed and shall not postpone the effectiveness of such rule or action. This action may not be challenged later in proceedings to enforce its requirements (see section 307(b)(2)).

List of Subjects in 40 CFR Part 52

Environmental protection, Air pollution control, Incorporation by reference, Intergovernmental relations, Ozone, Reporting and recordkeeping requirements, Volatile organic compounds.

Authority: 42 U.S.C. 7401 et seq.

Lisa Garcia,
Regional Administrador, Region 2.

For the reasons set forth in the preamble, EPA is amending 40 CFR part 52 as follows:

PART 52—APPROVAL AND PROMULGATION OF IMPLEMENTATION PLANS

1. The authority citation for part 52 continues to read as follows:

Authority: 42 U.S.C. 7401 et seq.

Subpart FF—New Jersey

2. In § 52.1570 paragraph (e), the table is amended by adding the entry for “NJ Infrastructure SIP for the 2015 ozone NAAQS” at the end of the table to read as follows:

§ 52.1570 Identification of plan.

* * * * *

(e) * * *

EPA-Approved New Jersey Nonregulatory and Quasi-Regulatory Provisions
SIP element | Applicable geographic or nonattainment area | New Jersey submittal date | EPA approval date | Explanation
* * * * * * *
NJ Infrastructure SIP for the 2015 ozone NAAQS | Statewide | 05/13/2019 | 8/9/2024, [insert Federal Register citation] | • Full approval. • This action addresses the following CAA elements: 110(a)(2)(A), (B), (C) (enforcement program only), (D)(i)(II) prong 4 (visibility), (E), (F), (G), (H), (J) (consultation and public notification only), (K), (L), and (M).

3. Section 52.1586 is amended by revising paragraphs (c)(1) and (2) to read as follows:

§ 52.1586 Section 110(a)(2) Infrastructure requirements.

* * * * *

(c) * * *

(1) Approval. New Jersey SIP revision submitted on May 13, 2019 to address CAA infrastructure requirements of 110(a)(2) for the 2015 8-hour ozone NAAQS is approved for (A), (B), (C)(enforcement program only), (D)(i)(II) prong 4 (visibility), (E), (F), (G),(H), (J)(consultation and public notification only),(K), (L), and (M).

(2) Disapproval. New Jersey SIP revision submitted on May 13, 2019, to address the CAA infrastructure requirements of 110(a)(2) for the 2015 8-hour ozone NAAQS, is disapproved for (C)(Preconstruction PSD program only), (D)(i)(I) (prongs 1 and 2), (D)(i)(II) prong 3, (D)(ii), and (J)(PSD program only). PSD program requirements are being addressed by § 52.1603 which has been delegated to New Jersey to implement.

* * * * *

[FR Doc. 2024-17335 Filed 8-8-24; 8:45 am]

BILLING CODE 6560-50-P